DEPARTMENT OF JUSTICE

Bureau of Alcohol, Tobacco, Firearms and Explosives

[OMB 1140-0025]

Agency Information Collection Activities; Proposed eCollection of eComments Requested; Limited Permittee Transaction Report—ATF Form 5400.4

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0025 (Limited Permittee Transaction Report—ATF Form 5400.4) is being revised to remove all references to the Explosives Delivery Record—ATF Form 5400.8. The proposed IC is also being published to obtain comments from the public and affected agencies.

DATES: Comments are encouraged and will be accepted for 60 days until August 15, 2022.

FOR FURTHER INFORMATION CONTACT: If you have additional comments regarding the estimated public burden or associated response time, suggestions, or need a copy of the proposed information collection instrument with instructions, or additional information, contact: Anita Scheddel, Program Analyst, Firearms and Explosives Industry Division, Explosives Industry Programs Branch, by mail at 99 New York Avenue NE, Mailstop 6N-518, Washington, DC 20226, by email at eipbinformationcollection@atf.gov, or by telephone at (202) 648-7120.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a Currently Approved Collection.

2. The Title of the Form/Collection: Limited Permittee Transaction Report.

3. The agency form number, if any, and the applicable component of the Department sponsoring the collection:

Form number (if applicable): ATF Form 5400.4.

Component: Bureau of Alcohol, Tobacco, Firearms and Explosives, U.S. Department of Justice.

4. Affected public who will be asked or required to respond, as well as a brief abstract:

Primary: Individuals or households.

Other (if applicable): Business or other for-profit.

Abstract: The Limited Permittee Transaction Report—ATF Form 5400.4 is used to determine if limited permittees have exceeded the number of receipts of explosives materials they are allowed, as well as the eligibility of such persons to purchase explosive materials.

5. An estimate of the total number of respondents and the amount of time estimated for an average respondent to respond: An estimated 100 respondents will respond to this collection six times annually, and it will take each respondent approximately 20 minutes to complete their responses.

6. An estimate of the total public burden (in hours) associated with the collection: The estimated annual public burden associated with this collection is 200 hours, which is equal to 100 (total respondents) * 6 (# of response per respondent) * .333333 (20 minutes or the time taken to prepare each response).

7. An Explanation of the Change in Estimates: Due to fewer respondents, the total responses and burden hours were reduced by 50 and 150 hours respectively since the last renewal in 2019. The public cost burden for this information collection also reduced by $65 although the postage rate increased from 55 cents to 58 cents since 2019.

If additional information is required contact: Robert J. Houser, Assistant Director, Policy and Planning Staff, Office of the Chief Information Officer, United States Department of Justice, Justice Management Division, Two Constitution Square, 145 N Street NE, Mail Stop 3.E-206, Washington, DC 20530.

Dated: June 9, 2022.
Robert Houser,
Assistant Director, Policy and Planning Staff, U.S. Department of Justice.

[FR Doc. 2022-12857 Filed 6-14-22; 8:45 am]

BILLING CODE 4410-FY-P